DEPARTMENT OF AGRICULTURE

Forest Service

Garnet Stars & Sands Project; Idaho Panhandle National Forests, Benewah and Latah Counties, Idaho

AGENCY: Forest Service, USDA.

ACTION: Notice of Intent to Prepare an Environmental Impact Statement.

SUMMARY: The St. Joe Ranger District of the Idaho Panhandle National Forests is beginning an analysis and preparation of an environmental Impact Statement to address recreational digging, leasing and/or sale of the garnet resource in the Emerald, Hidden, Wood and Cat Spur Creek drainages. The responsible official is Forest Supervisor, Idaho Panhandle National Forests, 3815 Schreiber Way, Coeur d' Alene, ID 83815.

The garnet resource consists of both sands and gemstones. The sands are used for industrial purposes, primarily as abrasives. The Project Area produces extraordinary quality and quantity of large garnets, with some of the drainages producing star garnets. These gemstones are use commercially for jewelry and are sought after by recreationists.

Much of the Emerald Creek drainage, on public and private lands, has been mined in the past. Two lease renewals, one new lease application, one prospecting permit extension, and eight new prospecting permit applications have been submitted. In addition, the Forest Service currently manages a public digging areas (by fee permit) in 281 Gulch, a tributary to Emerald Creek.

The Purpose and Need for this project is based in the fact that the garnet resource is finite and valuable and there is considerable public interest in leasing of gemstones and sands and retaining the recreational digging area. The Purpose and Need for this project is as follows:

• Respond to public interest in developing the mineral resource, while conserving the garnet resource for future generations.

• Gemstone deposits within the current Forest Service recreational digging area in 281 Gulch are becoming depleted. If the Forest Service is going to continue to provide this unique recreational digging opportunity, other areas need to be tested, identified and developed.

• Resolve twelve pending mining applications or extensions (lease applications, permit applications and permit extensions) for both garnets and sand, dating back to 1996.

DATES: The Draft Environmental Impact Statement is expected to be filed by October 1, 2001. The Final Environmental Impact Statement is expected to be filed by June 30, 2001.

ADDRESSES: Comments should be sent to: Garnet Stars & Sands, St. Joe Ranger District, PO Box 407, St. Maries, ID 83861.

FOR FURTHER INFORMATION CONTACT: Questions should be referred to Tracy Gravelle, St. Joe Ranger District, Avery Office, HC Box 1, Avery, ID 83861.

SUPPLEMENTARY INFORMATION:

Proposed Action

Public Recreational Gemstone Digging Areas

(1) The Forest Service would reserve Wood Creek and certain tributaries of the East Fork of Emerald Creek (281 Gulch, Garnet Gulch, No Name, PeeWee and Strom Creeks) and for public recreational digging of gemstone garnets. These areas would not be available for commercial lease.

These drainages would be tested with a combination of auger holes, hand or machine-dug trenches. After testing, drainages will be listed in order of priority for development. Each drainage would require different development. The following activities are likely:

Only one drainage at a time would be open.

All site may have trees cut and removed and/or used for reclamation.

An average of 200-300 feet per year would be opened and reclaimed according to design features in Chapter 2 of the EIS.

Reclamation will follow Best Management Practices and include site-specific mitigations that will be developed for this analysis.

Details by Drainage

281 Gulch: Progressive digging would continue in the two forks to the confluence of the East and West Forks. Digging would then continue on the main fork of 281 to Road 447. Overburden removal would be needed.

Garnet Gulch: The original parking area for Pee Wee and NoName creeks would be used for this drainage. The a-frame would be located at the parking area and a toilet facility installed. An estimated ½ mile trail would be constructed. Some overburden removal may be necessary.

PeeWee and No Name Creeks: These drainages have been recreational digging areas previously and are known to have high quality gemstones. At the time, there was no equipment brought in to remove overburden and it is believed that there may be more resource available. Development would include a toilet facility but the parking and other site space still exist. These two areas shared parking areas. Overburden removal is likely going to be necessary.

Strom Gulch: Parking, the a-frame and toilet may be developed on the upper road (Rd. 1487) or this site would utilize the facilities for Pee Wee and NoName Creeks. No overburden removal is expected.

Wood Creek: parking and a site for the a-frame and toilet would be developed. Some overburden removal may be necessary.

Lease Application

(2) The pending lease application (ID 29529) for gemstones on Bechtel Butte would be approved. This entails the following: 5 to 6 pits 15 feet in diameter; one backhoe trench 100 feet long by 20 feet wide and 8 feet deep on the ridge; a bobcat excavator would be used to fill in and dig smaller trenches (T42N, R1E, Sections 9, 10, 15 & 16). It is expected that these activities would begin in 2002 and continue through 2007.

Prospecting Permits

Prospecting permits also suggest that there could be further development applied for in the form of a lease application. In order to perform an efficient analysis, for some of the permits we are assuming subsequent development as long as analysis shows that it can be done within relevant laws and regulations. When or if a lease application is filed, then another NEPA decision would be required but it is likely that much of the pre-work would be complete with this document.

(3) The ending prospecting permit applications (ID 31439, 31440, 31441, 31442, 31443, 31444) and prospecting permit extension (ID 29619) would be approved. Specifically this entails three backhoe trenches.

For the area under these permits, ID 31439-31444 and 29619, the following subsequent development is assumed:

National Forest lands along the East and West Forks of Emerald Creek would be developed for mining garnet sands. This would include the wider and more accessible portions of the East Fork from the west line of T24N, R1E, Section 18 (between Flat Creek and Strom Gulch) to near the confluence of the East and West Forks of Emerald Creek. Some portions of Road 447 would be removed for mining and replaced afterward, which would result in a temporary re-route around mining operations. Some portions of the creek channel would be temporarily relocated for mining and then rebuilt. A similar mining scenario would take place in the West Fork on approximately 25 acres (½) mile of stream). The West Fork operations would begin at the upstream end and take two summer seasons beginning in the year 2003. The East Fork operations would begin at the upstream end of the creek and would last for a total of 7-10 years starting in the year 2003. West Fork location: T43N, R1E, Section 33 and T42N, R1E, Section 4. East Fork locations: T24N, R1W, Sections 13 and 14; T42N, R1E, Sections 3, 8, 9, 17, and 18.

Other areas would be explored for possible future mining development. However, the probability of mining activity here is less certain and will not be analyzed at this time. Any development of these drainages would likely be applied for after the mining in the East and West Forks is complete.

(4) The pending prospecting permit application (ID 33036/amended application (4/2/2001)) for garnet gemstones would be approved. This entails hand-dug trenches in a tributary to Cat Spur Creek. No assumptions for further development will be made at this time. (T42N, R2E, Section 19).

(5) The pending prospecting permit application (ID 32421) for garnet sands on Bechtel Butte would be approved. This entails three hand-dug trenches 10 ft. × 12 ft. (T42N, R1E, Sections 9, 10, 15, 16).

Lease Renewal

(6) The pending lease renewal applications (ID 016415 & 25554) would be approved. This would include development and mining for garnet sands on approximately 8.0 acres in Section 9 on the East Fork of Emerald Creek; these operations would likely occur in the last third of the 7-10 year mining period for mining the East Fork. The remaining areas of the lease have already been mined and reclaimed. (T42N, R1E, Section 9).

Conditions & Reclamation

(7) The conditions and reclamation requirements under which any recreational and commercial garnet mining could be implemented would be developed.

Forest Plan Amendment and Other Agency Permits

It is possible that this proposal would require a non-significant Forest Plan amendment regarding mining development.

The proposed action allows for commercial leasing of gemstones and sands, which requires permit approval and implementation by the Bureau of Land Management. Project implementation with floodplains would require Corps of Engineers Permits (404 permits).

Issues

We expect that maintaining fish and water quality will be issues of primary importance. Also, we expect that whether or not to maintain recreational digging areas is likely to be an issue. Other issues will be developed during this scoping period. A likely alternative to the proposed action could be to allow recreational digging only and not allow commercial leasing of gemstone garnets.

Public Involvement

A scoping letter has been sent to addresses on the mailing list in addition to outreach to rockhound groups and other interested parties. While public participation is welcome at any time, comments received during the 30-day scoping comment period will be especially useful in preparation of the Draft EIS. News releases have been sent out to the local and major newspapers in northern Idaho. This project is also listed on the Idaho Panhandled National Forest web site (www.fs.fed.us/ipnf); pertinent documents will be displayed on this site. In addition, the comment period on the draft environmental impact statement will be 45 days from the date the Environmental Protection Agency publishes the notice of availability in the Federal Register. It is the reviewer's obligation to comment during the scoping and/or DEIS review.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 533 (1973). Also, environmental objections that could be raised at the draft environmental impact statement stage but that are not raised until after completion of the final environmental impact statement may be waived or dismissed by the courts. City of Amgoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Dated: April 16, 2001.
Pat Aguilar,
Acting Forest Supervisor, Idaho Panhandle National Forests.

[FR Doc. 01-10812 Filed 4-30-01; 8:45 am]

BILLING CODE 3410-11-M